DEPARTMENT OF LABOR

Office of the Secretary

Submission for OMB Review; Comment Request

December 20, 2000.

The Department of Labor (DOL) has submitted the following public information requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-mail to King-Darrin@dol.gov).

Comments should be sent to Office of Information and Regulatory Affairs, Attn: Desk Officer for BLS, DM, ESA, ETA, MSHA, OSHA, PWBA, or VETS, Office of Management and Budget, Room 10235, Washington, DC 20503 ((202) 395-7316), within 30 days from the date of this publication in the Federal Register.

OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Department of Labor, Pension and Welfare Benefits Administration.

Title: Prohibited Transaction Exemption 80-83; Purchase of securities where issuer may use proceeds to reduce indebtedness to parties in interest.

Type of Review: Extension of a currently approved collection.

OMB Number:1210-0064.

Affected Public: Business or other for-profit, not-for-profit institutions, individuals or households.

Frequency of Response: On occasion.

Respondents: 25.

Responses: 25.

Total Estimated Burden Hours: 2.

Total Annualized Capital/Startup Costs: $0.

Total Annual Cost (Operating and Maintenance): $0.

Description: Section 408(a) of the ERISA authorizes the Secretary of Labor to grant a conditional or unconditional exemption of any fiduciary or class of fiduciaries or transactions, from all or part of the restrictions imposed by section 406 of ERISA. Prohibited transaction exemption 80-83, which was granted on November 4, 1980, allows employee benefit plans to purchase securities which may aid the issuer of the securities to reduce or retire indebtedness to a party in interest. By requiring that records pertaining to the exempted transaction are maintained for six years, this ICR insures that the exemption is not abused, the rights of the participants and beneficiaries are protected, and that compliance with the exemption's conditions is taking place.

Agency: Department of Labor, Pension and Welfare Benefits Administration.

Title: Prohibited Transaction Exemption 75-1; Broker-dealers, Reporting Dealers, Banks Engaging in Securities Transactions.

Type of Review: Extension of a currently approved collection.

OMB Number: 1210-0092.

Affected Public: Business or other for-profit, not-for-profit institutions, individuals or households.

Frequency of Response: On occasion.

Respondents: 42,000.

Responses: 42,000.

Total Estimated Burden Hours: 3,500.

Total Annualized Capital/Startup Costs: $0.

Total Annual Cost (Operating and Maintenance): $0.

Description: Section 408(a) of the ERISA authorizes the Secretary of Labor to grant a conditional or unconditional exemption of any fiduciary or class of fiduciaries or transactions, from all or part of the restrictions imposed by section 406 of ERISA. Prohibited Transaction Exemption (PTE) 75-1, granted on October 24, 1975, allows several types of security transactions between plans and broker-dealers, reporting dealers and banks. Transactions, which would otherwise be prohibited, include broker-dealers filing a plan's order from its personal inventory of stocks, plans purchasing securities from underwriting syndicates in which the plan fiduciary is a member, plans purchasing or selling securities to a market maker even if the market maker is a fiduciary, and broker-dealers extending credit to a plan in settling a security transaction. By requiring that records pertaining to the exempted transactions are maintained for six years, this ICR insures that the exemption is not abused, the rights of the participants and beneficiaries are protected, and that compliance with the exemption's conditions is taking place.

Agency: Department of Labor, Pension and Welfare Benefits Administration.

Title: Prohibited Transaction Exemption 88-59; Residential Mortgage Financing Arrangements Involving Employee Benefit Plans.

Type of Review: Extension of a currently approved collection.

OMB Number: 1210-0095.

Affected Public: Business or other for-profit, not-for-profit institutions, individuals or households.

Frequency of Response: On occasion.

Respondents: 500.

Responses: 2,500.

Total Estimated Burden Hours: 208.

Total Annualized Capital/Startup Costs: $0.

Total Annual Cost (Operating and Maintenance): $0.

Description: Section 408(a) of the ERISA authorizes the Secretary of Labor to grant a conditional or unconditional exemption of any fiduciary or class of fiduciaries or transactions, from all or part of the restrictions imposed by section 406 of ERISA. Prohibited transaction exemption 88-59, which was granted on June 30, 1988, allows employee benefit plans to participate in several different types of residential mortgage financing transactions. By requiring that records pertaining to the exempted transaction are maintained for the duration of a mortgage loan, this ICR insures that the exemption is not abused, the rights of the participants and beneficiaries are protected, and that compliance with the exemption's conditions is taking place.

Ira L. Mills,
Departmental Clearance Officer.

[FR Doc. 00-33345 Filed 12-28-00; 8:45 am]

BILLING CODE 4510-29-M